NATIONAL SCIENCE FOUNDATION

National Science Board; Sunshine Act Meeting Notice

The National Science Board's Subcommittee on Facilities, Committee on Strategy and Budget, pursuant to NSF regulations (45 CFR part 614), the National Science Foundation Act, as amended (42 U.S.C. 1862n-5), and the Government in the Sunshine Act (5 U.S.C. 552b), hereby gives notice in regard to the scheduling of a meeting for the transaction of National Science Board business and other matters specified, as follows:

DATE AND TIME: Tuesday, June 29, 2010, at 8 a.m. to 3 p.m.

SUBJECT MATTER: Discussion includes:

Categorization of facilities and associated issues, review of National Science Foundation facilities, identification of areas that will benefit from policy guidance and next steps (Open session).

Future year budgets for current & future facilities (Closed session: 11 p.m.-12:30 p.m).

STATUS: Open and Closed (see above).

PLACE: This meeting will be held in Conference Room # 375, National Science Foundation, 4201 Wilson Blvd., Arlington, VA 22230. Please refer to the National Science Board Web site http://www.nsf.gov/nsb for information or schedule updates, or contact: Elizabeth Strickland, National Science Foundation, 4201 Wilson Blvd., Arlington, VA 22230. Telephone: (703) 292-7000.

Any changes to time, place, subject matter or status of meeting may be found at http://www.nsf.gov/nsb/notices/.

Daniel A. Lauretano,
Counsel to the National Science Board.

[FR Doc. 2010-14867 Filed 6-16-10; 11:15 am]

BILLING CODE 7555-01-P